DEPARTMENT OF AGRICULTURE

Forest Service

Lassen National Forest, Almanor Ranger District, California; Willow Forest Health Recovery Project

AGENCY: Forest Service, USDA.

ACTION: Notice of intent.

SUMMARY: The Forest Service proposes to develop a network of defensible fuel profile zones (DFPZ's), establish group selection harvest units, conduct area thinnings, make improvements in riparian habitat conservation areas (RHCA's), and recover aspen stands on the Almanor Ranger District in the Lassen National Forest. Treatments total an estimated 4,523, 730, 5,653, 409, and 403 acres, respectively, and are spread over a 42,340 acre project area. Included in this proposal are the use of National Forest system roads, the use of temporary roads, and the decommissioning of roads. The project would be implemented through a combination of commercial timber sales, service contracts, and force account crews. These management activities were developed to implement and be consistent with the 1993 Lassen National Forest (LNF) Land and Resource Management Plan (LRMP), as amended by the Herger-Feinstein Quincy Library Group Forest Recovery Act FEIS, FSEIS, and ROD's (1999, 2003), and the Sierra Nevada Forest Plan Amendment 2001 FEIS, 2004 FSEIS, and ROD.

Decision to be Made: The decision to be made is whether to implement the proposed action as described above, to meet the purpose and need for action through some other combination of activities, or to take no action at this time.

DATES: Comments concerning the scope of the analysis should be received in writing within 30 days of the date of publication of this Notice of Intent in the Federal Register. The expected filing date with the Environmental Protection Agency for the draft EIS is October 17, 2006. The expected filing date for the final EIS is April 23, 2007.

FOR FURTHER INFORMATION CONTACT: Al Vazquez, District Ranger, or Matt Cerney, Interdisciplinary Team Leader, may be contacted by phone at (530) 258-2141 for more information about the proposed action. Written scoping comments may be sent to the Almanor Ranger District. P.O. Box 767, Chester, CA 96020. The Almanor Ranger District business hours are from 8 a.m. to 4:30 p.m., Monday through Friday. Electronic scoping comments, in acceptable plain text (.txt), rich text (.rtf), or Word (.doc) formats, may be submitted to: comments-pacificsouthwest-lassen-almanor@fs.fed.us.

Subject: Willow Forest Health Recovery Project.

Laurie Tippin,
Forest Supervisor.

[FR Doc. 06-4760 Filed 5-22-06; 8:45 am]

BILLING CODE 5410-99-M